FARM CREDIT ADMINISTRATION

12 CFR Part 614

RIN 3052-AC62

Loan Policies and Operations; Loan Purchases From FDIC; Effective Date

AGENCY: Farm Credit Administration.

ACTION: Notice of effective date.

SUMMARY: The Farm Credit Administration (FCA or Agency), through the FCA Board (Board), issued a final rule under part 614 on May 25, 2011 (76 FR 30246) amending our regulations on loan policies and operations. In accordance with 12 U.S.C. 2252, the effective date of the final rule is 30 days from the date of publication in the Federal Register during which either or both Houses of Congress are in session. Based on the records of the sessions of Congress, the effective date of the regulations is July 12, 2011.

DATES: Effective Date: Under the authority of 12 U.S.C. 2252, the regulation amending 12 CFR part 614 published on May 25, 2011 (76 FR 30246) is effective July 12, 2011.

FOR FURTHER INFORMATION CONTACT:

Mark L. Johansen, Senior Policy Analyst, Office of Regulatory Policy, Farm Credit Administration, McLean, Virginia 22102-5090, (703) 883-4498, TTY (703) 883-4434, or

Mary Alice Donner, Senior Counsel, Office of General Counsel, Farm Credit Administration, McLean, Virginia 22102-5090, (703) 883-4020, TTY (703) 883-4020.

(12 U.S.C. 2252(a)(9) and (10))

Dated: July 14, 2011.
Dale L. Aultman,
Secretary, Farm Credit Administration Board.

[FR Doc. 2011-18192 Filed 7-18-11; 8:45 am]

BILLING CODE 6705-01-P